DEPARTMENT OF LABOR

Employment and Training Administration

[TA-W-81,111A]

Alternative Staffing, Formerly Known as First Choice Staffing, Working On-Site at Ametek Nationals Controls Corporation, Instrumentation and Speciality Controls Division, West Chicago, IL; Amended Certification Regarding Eligibility To Apply for Worker Adjustment Assistance

In accordance with Section 223 of the Trade Act of 1974, as amended (“Act”), 19 U.S.C. 2273, the Department of Labor issued a Certification of Eligibility to Apply for Worker Adjustment Assistance on December 14, 2011, First Choice Staffing working on-site at Ametek Nationals Controls Corporation, Instrumentation and Specialty Control Division, West Chicago, Illinois. The Department's notice of determination was published in the Federal Register on December 21, 2011 (Vol. 76, No. 245, FR 79221).

At the request of the state workforce official, the Department reviewed the certification for workers of the subject firm. The workers are engaged in the production of foodservice OEM (Original Equipment Manager) controls and stand-alone timers, industrial process controls, controls for industrial air filters, and controls for environmental dust collectors.

The review shows that on December 14, 2011, a certification of eligibility to apply for adjustment assistance was issued for all workers of Alternative Staffing formerly known as First Choice Staffung working on-site at Ametek Nationals Controls Corporation, Instrumentation and Specialty Control Division, West Chicago, Illinois, separated from employment on or after February 13, 2010 through December 14, 2013. The notice was published in the Federal Register on December 21, 2011 (Vol. 76, No. 245, FR 79221).

New information shows that the leasing agency formerly known as First Choice Staffing currently operates under a new name, Alternative Staffing. Accordingly, the Department is amending this certification to properly reflect this matter.

The amended notice applicable to TA-W-81,111A is hereby issued as follows:

All workers of Alternate Staffing, formerly known as First Choice Staffing working on-site at Ametek Nationals Controls Corporation, Instrumentation and Specialty Control Division, West Chicago, Illinois, who became totally or partially separated from employment on or after December 14, 2010, through December 14, 2013, and all workers in the group threatened with total or partial separation from employment on the date of certification through two years from the date of certification, are eligible to apply for adjustment assistance under Chapter 2 of Title II of the Trade Act of 1974, as amended.

Signed in Washington, DC, this 28th day of June, 2012.
Michael W. Jaffe,
Certifying Officer, Office of Trade Adjustment Assistance.

[FR Doc. 2012-16741 Filed 7-9-12; 8:45 am]

BILLING CODE P